DEPARTMENT OF THE INTERIOR

Fish and Wildlife Service

Long Island National Wildlife Refuge Complex

AGENCY: Fish and Wildlife Service, Interior.

ACTION: Notice of availability: Final comprehensive conservation plan and finding of no significant impact.

SUMMARY: The Fish and Wildlife Service (Service) announces the availability of the final Comprehensive Conservation Plan (CCP) and Finding of No Significant Impact for Long Island National Wildlife Refuge (NWR) Complex. Prepared in conformance with the National Wildlife Refuge System Administration Act of 1966, as amended by the National Wildlife Refuge System Improvement Act of 1997, and the National Environmental Policy Act of 1969, the plan describes how we intend to manage the complex over the next 15 years.

ADDRESSES: You may obtain copies of this CCP on compact disk or in print by writing to Long Island National Wildlife Refuge Complex, P.O. Box 21, 360 Smith Road, Shirley, NY 11967, or by calling 631-286-0485. You may also access and download a copy from the Web sites http://library.fws.gov/ccps.htm or http://longislandrefuges.fws.gov.

FOR FURTHER INFORMATION CONTACT: Deb Long, Refuge Manager, Long Island NWR Complex, at 631-286-0485, or by e-mail at Deb_Long@fws.gov.

SUPPLEMENTARY INFORMATION: The National Wildlife Refuge System Administration Act, as amended by the National Wildlife Refuge System Improvement Act of 1997 (16 U.S.C. 668 dd et seq.) requires CCPs for all refuges to provide refuge managers with 15-year strategies for achieving refuge purposes and furthering the mission of the National Wildlife Refuge System. Developing CCPs is done according to the sound principles of fish and wildlife science and laws, while adhering to Service planning and related policies. In addition to outlining broad management direction on conserving refuge wildlife and habitat, CCPs identify wildlife-dependent recreational opportunities available to the public, including opportunities for hunting, fishing, wildlife observation and photography, and environmental education and interpretation. We will review and update this CCP at least once every 15 years.

Long Island NWR Complex includes Amagansett, Conscience Point, Elizabeth A. Morton, Oyster Bay, Seatuck, Target Rock, and Wertheim NWRs, along with Lido Beach Wildlife Management Area and the Sayville Unit. The complex spans over 6,200 acres in Suffolk and Nassau Counties of New York State. Management focuses on migratory birds, threatened and endangered species, and their habitats. The Service acquired most of the refuges in the complex under authority of the Migratory Bird Conservation Act of 1929 (16 U.S.C. 715-715r) for “use as an inviolate sanctuary, or for any other management purposes, for migratory birds.” Three of the units were established under authority of the Transfer of Certain Real Property for Wildlife Conservation Purposes Act (16 U.S.C. 667b-667d) for “particular value in carrying out the national migratory bird management program.”

We distributed a draft CCP/EA for public review and comment for 30 days between June 19 and July 19, 2006. Its distribution was announced in the Federal Register on June 19, 2006 (71 FR 35283). That draft analyzed three alternatives for managing the complex. We also held three public meetings, on June 26, 27, and 28, 2006, to obtain public comments. We received 29 comments. Appendix I of the final CCP includes a summary of those comments and our responses to them.

We selected Alternative B (the Service-proposed action) from the draft CCP/EA as the alternative for implementation. Our final CCP fully describes its details. Staff from Wertheim NWR headquarters office in Shirley, New York, will continue to administer all units of the complex. Highlights of the final CCP include:

(1) Increasing existing programs to protect habitats and manage for the threatened piping plover, the endangered Sandplain gerardia, American eel, mud and box turtles, wintering waterfowl, and neotropical migratory songbirds;

(2) Intensifying efforts to control non-native invasive species such as phragmites, and evaluating and implementing new management practices to decrease insecticide use in marsh communities;

(3) Constructing a new headquarters and visitor facility at Wertheim NWR that will also serve as an office for Region 5's Long Island Field Office, part of the Ecological Services program;

(4) Strengthening interpretive and environmental education programs throughout the refuges; and

(5) Expanding outreach efforts, such as public relations and volunteer programs;

(6) Initiating a regulated early-season (September) hunt and other population control measures to manage overabundant populations of resident Canada geese at Wertheim NWR.

The Service will actively pursue land acquisition opportunities within the refuges' approved boundaries, as well as other land protection opportunities. However, the CCP does not propose Service acquisition of additional lands at this time.

Dated: August 30, 2006.
Richard O. Bennett,
Acting Regional Director, U.S. Fish and Wildlife Service, Hadley, Massachusetts.

[FR Doc. E6-15150 Filed 9-12-06; 8:45 am]

BILLING CODE 4310-55-P